FEDERAL COMMUNICATIONS COMMISSION

Information Collection Approved by the Office of Management and Budget

AGENCY: Federal Communications Commission.

ACTION: Notice.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: Ginny Kennedy, Wireline Competition Bureau, Telecommunications Access Policy Division at 202-418-7400 or e-mail at Ginny.Kennedy@fcc.gov

SUPPLEMENTARY INFORMATION: OMB Control Number: 3060-0774.

OMB Approval Date: June 23, 2011.

Expiration Date: June 30, 2014.

Title: Parts 36 and 54, Federal-State Joint Board on Universal Service.

Form Number: N/A.

Estimated Annual Burden: 7,577,634 responses; .084 hours-125 hours (average); 1,152,255 hours total per year.

Obligation to Respond: Required to obtain or retain benefits. Statutory authority for this information collection is contained in 47 U.S.C. 151-154, 201-205, 218-220, 214, 254, 303(r), 403 and 410.

Nature and Extent of Confidentiality: There is no need for confidentiality. However, respondents may request materials or information submitted to the Commission be withheld from public inspection under 47 CFR 0.459 of the Commission's rules.

Needs and Uses: The Office of Management and Budget (OMB) approved the revision to the subject collection. In this revision, the Commission made mathematical corrections, rule part consolidations, and eliminated one item to avoid duplicity (information was being reported on the same rule provision under a different OMB control number). Redundant or unnecessary information was removed. OMB approved a 127.200 hour burden reduction adjustment. In the Telecommunications Act of 1996 (1996 Act), Congress directed the Commission to implement a new set of universal service support mechanisms that are explicit and sufficient to advance the universal service principles enumerated in 47 U.S.C. 254.

Federal Communications Commission.
Bulah P. Wheeler,
Deputy Manager, Office of the Secretary, Office of Managing Director.

[FR Doc. 2011-17431 Filed 7-11-11; 8:45 am]

BILLING CODE 6712-01-P